DEPARTMENT OF THE TREASURY

Financial Crimes Enforcement Network

Agency Information Collection Activities; Comment Request of the Proposed Changes to the Report of Foreign Bank and Financial Accounts Report

AGENCY: Financial Crimes Enforcement Network (“FinCEN”), Department of the Treasury.

ACTION: Notice and request for comments.

SUMMARY: FinCEN, a bureau of the U.S. Department of the Treasury, invites all interested parties to comment on its proposed update to Form TD F 90-22.1, Report of Foreign Bank and Financial Accounts (“FBAR”). This request for comments is made pursuant to the Paperwork Reduction Act of 1995 (44 U.S.C. Chapter 35).

DATES: Written comments should be received on or before May 6, 2013 to be assured of consideration.

ADDRESSES: Direct all written comments to: Regulatory Policy and Programs Division, Financial Crimes Enforcement Network, U.S. Department of the Treasury, P.O. Box 39, Vienna, VA 22183, Attention: PRA Comments—Update to the FBAR report. Comments also may be submitted by electronic mail to the following Internet address: “regcomments@fincen.gov” with the caption in the body of the text, “Attention: PRA Comments— Update to the FBAR report.”

Inspection of Comments: Comments may be inspected, between 10 a.m. and 4 p.m., in the FinCEN reading room in Vienna, VA. Persons wishing to inspect the comments submitted must request an appointment with the Disclosure Officer by telephoning (703) 905-5034 (not a toll free call).

FOR FURTHER INFORMATION CONTACT: Financial Crimes Enforcement Network, Regulatory Policy and Programs Division at (800) 949-2732. A copy of Form TD F 90-22.1 reflecting the proposed changes may be found at the end of this notice.

SUPPLEMENTARY INFORMATION: Abstract: The statute generally referred to as the “Bank Secrecy Act” (“BSA”), Titles I and II of Public Law 91-508, as amended, codified at 12 U.S.C. 1829b, 12 U.S.C. 1951-1959, and 31 U.S.C. 5311-5314 and 5316-5332, authorizes the Secretary of the Treasury, inter alia, to require financial institutions to keep records and file reports that are determined to have a high degree of usefulness in criminal, tax, and regulatory matters, or in the conduct of intelligence or counter-intelligence activities to protect against international terrorism, and to implement counter-money laundering programs and compliance procedures.¹ Regulations implementing Title II of the BSA appear at 31 CFR Chapter X. The authority of the Secretary to administer the BSA has been delegated to the Director of FinCEN.

¹ Language expanding the scope of the Bank Secrecy Act to intelligence or counter-intelligence activities to protect against international terrorism was added by Section 358 of the Uniting and Strengthening America by Providing Appropriate Tools Required to Intercept and Obstruct Terrorism Act of 2001 (the “USA PATRIOT Act”), P.L. 107-56.

The information collected on Form TD F 90-22.1 (as well as other BSA reporting and recordkeeping requirements that are not the subject of this notice) assist Federal, state, and local law enforcement in the identification, investigation, and prosecution of individuals involved in money laundering, the financing of terrorism, tax evasion, narcotics trafficking, organized crime, fraud, embezzlement, and other crimes. The information also assists in tax collection, examination, and other regulatory matters.²

² The information collection addressed in this notice is currently approved under Office of Management and Budget (“OMB”) Control Number 1506-0009.

Current Action: FinCEN is proposing to update the current TD F 90-22.1 report to standardize it with other BSA electronically filed reports and add the capability for a third party preparer to file the report should the owner of the foreign account wish to employ this option. To standardize the FBAR with other BSA reports, FinCEN proposes to add an item to record taxpayer identification number (“TIN”) Type to Part I, item 3a; Part I, item 4; Part III, item 25a; Part IV, item 35a; and V, item 35a. The addition of a check box to indicate that the amount is unknown is added to Parts II, III, IV, and V in item 15a. FinCEN also proposes to add a new item “Suffix” to Part I, item 8a; Part III, item 28a; and Part IV, item 37a. This update includes a revised signature section. It adds item 44a, a check box with the instruction “Check here [box for checking] if this report is completed by a 3rd party preparer and complete item 46 and the third party preparer section.” ³ A new section, “3rd Party Preparer Use Only,” is added to the report to support this method of filing. The 3rd Party Preparer section consists of the preparer's last name, first name, and middle initial (items 47, 48, and 49); preparer's signature (item 50); a check box to indicate if the preparer is self-employed (item 51); the preparer's TIN and TIN Type (items 52 and 52a); and a contact telephone number and extension, if applicable, (items 53 and 53a). If the preparer is an employee of a firm, the firm's name and employer identification number (“EIN”) are entered in items 54 and 55. Finally, the address (street number, city, state, ZIP/Postal Code, and country) of the preparer (if self-employed) or the firm is entered in items 56 through 60.⁴

³ The date in item 46 will be entered automatically if the FBAR is filed through the BSA E-Filing Discrete (single report) Option. If the FBAR is batch filed, the date must be manually entered in the batch filing specifications' 2a Record.

⁴ If a third party preparer completes and files the report, the report will be signed in item 50. If the report is completed and filed by the owner of the foreign account, the report will be signed in the signature section, item 44.

Title: Reports of foreign financial accounts (31 CFR 1010.350).

OMB Control Number: 1506-0009 (The IRS's OMB control number is 1545-2038).

Current Action: There is no change to the existing regulations.

Type of Review: Revision of a currently approved collection.

Affected Public: Individuals, businesses or for-profit institutions, and non-profit institutions.

Estimate Number of Affected Filing Individuals and Entities: 780,000.⁵

⁵ This figure reflects the actual number of FBAR filings in calendar year 2012.

Estimated Recordkeeping and Reporting Burden: Based on past filings, 30 minutes for recordkeeping and 45 minutes for report completion for a total filing burden of 1 hour and fifteen minutes (1:15).

Estimated Annual Recordkeeping and Reporting Burden Hours: 975,000.⁶

⁶ 780,000 reports × 1.25 hours per report = 975,000 hours.

An agency may not conduct or sponsor, and a person is not required to respond to, a collection of information unless the collection of information displays a valid OMB control number. Records required to be retained under the BSA must be retained for five years. Generally, information collected pursuant to the BSA is confidential, but it may be shared as provided by law with regulatory and law enforcement authorities.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance and purchase of services to provide information.

Dated: February 26, 2013.
Jennifer Shasky Calvery,
Director, Financial Crimes Enforcement Network.

BILLING CODE 4810-02-P

[FR Doc. 2013-04936 Filed 3-4-13; 8:45 am]

BILLING CODE 4810-02-C